DEPARTMENT OF TRANSPORTATION

Federal Aviation Administration

14 CFR Part 39

[Docket No. FAA-2007-0242; Directorate Identifier 2007-NE-51]

Airworthiness Directives; General Electric Company CF6-80C2 and CF6-80E1 Series Turbofan Engines

AGENCY: Federal Aviation Administration, DOT.

ACTION: Proposed rule; withdrawal.

SUMMARY: This action withdraws a notice of proposed rulemaking (NPRM) that proposed a new airworthiness directive (AD), applicable to General Electric Company (GE) CF6-80C2 and CF6-80E1 series turbofan engines. That action would have required replacement of all clevis pins installed on the thrust reverser central drive units and upper and lower actuators, or replacement of pins that fail an on-wing rebound hardness test. Since we issued that NPRM, we determined there is no unsafe condition that warrants issuing an AD. The likelihood of this event occurring again and significantly damaging an aircraft is very low. Accordingly, we withdraw the proposed rule.

FOR FURTHER INFORMATION CONTACT: Christopher Richards, Aerospace Engineer, Engine Certification Office, FAA, Engine and Propeller Directorate, 12 New England Executive Park, Burlington, MA 01803; e-mail: christopher.j.richards@faa.gov; telephone: (781) 238-7133, fax: (781) 238-7199.

SUPPLEMENTARY INFORMATION: A proposal to amend part 39 of the Federal Aviation Regulations (14 CFR part 39) to add a new airworthiness directive (AD), applicable to (GE) CF6-80C2 and CF6-80E1 series turbofan engines, was published in the Federal Register on February 25, 2008 (73 FR 9970). The proposed rule would have required replacement of all clevis pins installed on the thrust reverser central drive units and upper and lower actuators, or replacement of pins that fail an on-wing rebound hardness test. That action results from failure of a thrust reverser during landing due to unapproved clevis pins being installed. The failure was due to lack of clevis pin hardness. The proposed actions were intended to prevent thrust reverser failure, which could lead to damage to the thrust reverser and airplane.

Since we issued that NPRM we have determined we don't need to issue an Airworthiness Directive to mandate an inspection. We have determined that the probability that inferior pin material is present in the fleet does not present sufficient risk to warrant an AD. However, operators and maintenance facilities should remain diligent in their normal maintenance practices to prevent installation of unapproved materials and to recognize when a clevis pin of inferior material is installed. We issued Safety Information Alert Bulletin No. NE-08-44, dated September 3, 2008, to aid in identifying and understanding the inferior clevis pin material.

Upon further consideration, we determined there is no unsafe condition that warrants issuing an AD. The likelihood of this event occurring again and significantly damaging an aircraft is very low. Accordingly, we withdraw the proposed rule.

Withdrawing this notice of proposed rulemaking constitutes only such action, and does not preclude us from issuing another notice in the future, nor does it commit us to any course of action in the future.

Since this action only withdraws a notice of proposed rulemaking, it is neither a proposed nor a final rule and therefore, is not covered under Executive Order 12866, the Regulatory Flexibility Act, or DOT Regulatory Policies and Procedures (44 FR 11034, February 26, 1979).

List of Subjects in 14 CFR Part 39

Air transportation, Aircraft, Aviation safety, Safety.

The Withdrawal

Accordingly, the notice of proposed rulemaking, Docket No. FAA-2007-0242, published in the Federal Register on February 25, 2008 (73 FR 9970), is withdrawn.

Issued in Burlington, Massachusetts, on October 1, 2008.
Peter A. White,
Assistant Manager, Engine and Propeller Directorate, Aircraft Certification Service.

[FR Doc. E8-24248 Filed 10-10-08; 8:45 am]

BILLING CODE 4910-13-P